DEPARTMENT OF AGRICULTURE

Forest Service

Caribou-Targhee National Forest, Caribou County, ID, Smoky Canyon Mine Panels F and G Project

AGENCY: Forest Service, USDA.

ACTION: Revision of the Notice of Intent to prepare an Environmental Impact Statement for the Smoky Canyon Mine, Panels F and G Project, as published in the Federal Register page 53998 to 53999 on September 15, 2003 (Vol. 68, No. 178). This revision includes a change of project schedule.

SUMMARY: The USDA, Forest Service, DOI, Bureau of Land Management and Idaho Department of Environmental Quality are preparing an Environmental Impact Statement to document the analysis and disclose the environmental impacts of the proposed Smoky Canyon Mine, Panels F and G Project, a phosphate mine expansion. This revised Notice of Intent is to document some changes in the schedule.

In the original NOI, the tentative date for filing the Draft EIS was March of 2005 and the Final EIS was scheduled for September, 2005. Due to scheduling changes, the Draft EIS is now expected to be available for review in December, 2005. The final EIS is scheduled to be completed in July, 2006.

Plans have been developed and submitted for agency review for an extension of open pit mining operations at the J.R. Simplot Company (Simplot) Smoky Canyon Phosphate Mine in Canyon County, Idaho, located approximately 20 miles west of Afton, Wyoming. Simplot has operated existing Smoky Canyon Mine since 1983 and within a few years will complete mining of currently permitted reserves.

Agency Decisions: The BLM Idaho State Director or delegated official will make a decision regarding approval of the proposed mine and reclamation plan and appropriate land use authorizations (including a proposed 520 acre modification to I-27512 and up to a 100 acre modification to I-01441) on leased lands. Decisions will be based on the EIS and any recommendations the FS may have regarding surface management of leased National Forest System lands. The Caribou-Targhee National Forest Supervisor makes recommendations to the BLM concerning surface management and mitigation on leased lands within the Caribou-Targhee National Forest and makes decisions on mine-related activities which occur off-lease. The Army Corps of Engineers may also make decisions related to permits under section 404 of the Clean Water Act.

DATES: A draft EIS is expected to be completed by the end of December 2005. A final EIS is expected in July of 2006.

Scoping Procedure: The scoping procedure used for this EIS involved: Notification in Federal Register; a mailing to interested and potentially affected individuals, groups, Federal, State and local government entities eliciting comments, issues and concerns; local news releases or newspaper legal notices; and public scoping meetings.

ADDRESSES: Send written comments to: Smoky Canyon Mine DEIS, c/o The Shipley Group, PO Box 2000, Bountiful, UT 84011-2000. E-mail: scm_deis@contentanalysisgroup.com.

FOR FURTHER INFORMATION CONTACT: Bill Stout, Bureau of Land Management, Pocatello Field Office, 4350 Cliffs Drive, Pocatello, Idaho 83204, phone (208) 478-6340; or Scott Gerwe, Caribou-Targhee National Forest, Soda Springs Ranger District, 410 E. Hooper Ave., Soda Springs, Idaho 83276, phone (208) 547-4356, Information is also available at http://www.blm.gov/nhp/spotlight/state_info/planning.htm.

SUPPLEMENTARY INFORMATION: The proposed new extension of mining operations in Panels F and G lie within the Caribou-Targhee National Forest on lands administered by the FS and Federal mineral leases administered by the BLM. Mining as proposed would take place on Panels F and G, including lease modifications (enlargement) of leases I-27512 and I-01441. These existing Federal mineral leases are adjacent to the southwest portion of the existing mine and were previously issued to Simplot by competitive bid in January of 2001 and October of 1950 respectively. Environmental impacts of the proposed mining operations and reasonable alternatives will be analyzed in the EIS. Appropriate mitigation measures will also be formulated.

The proposed mining activities consist of two open pits—Panel F on Federal phosphate lease I-27512 (sometimes referred to as the Manning Creek lease) and Panel G on Federal phosphate lease I-01441 (sometimes referred to as the Deer Creek lease), topsoil stockpiles, mine equipment parking and service areas, access and haul roads, a power line extension from the existing Smoky Canyon loop, permanent external overburden storage areas, and runoff/sediment control facilities. A new haul/access road to transport ore to the existing Smoky Canyon mill is proposed to be constructed from the south end of the existing Panel E approximately 2.5 miles to the proposed Panel F. As operations move south to Panel G, another haul road is proposed to transport ore 7.8 miles from Panel G north to Panel F. Much of these activities are proposed to occur within the FS Sage Creek inventoried roadless area.

As proposed, the existing Smoky Canyon Mine, maintenance, administrative, and milling facilities would continue to be used. However, because G panel lies several miles south of the currently existing maintenance and fuel facilities, Simplot's plans propose mine support facilities at the new panels including: Equipment ready lines, electrical substations, warehouse and storage areas, lunch rooms, repair shops, restrooms, fuel and lubricant storage and dispensing facilities and blasting supplies.

Ore from the new panels would be hauled in trucks over new and existing haul/access roads to the existing Smoky Canyon mill facilities to be concentrated. Ore concentrate from the mill would be transported to the Simplot fertilizer plant in Pocatello, Idaho via the existing slurry pipeline system. Mill tailings would continue to be deposited in the currently approved and permitted tailings disposal facilities located on Simplot property east of the mill.

Initially, overburden generated from Panel F would be trucked to the existing Panel E open pit and used as backfill. Excess waste rock is proposed to be permanently placed in a 35-acre pit overfill on-lease. Remaining overburden from Panel F would then be placed as backfill in Panel F as soon as practical. Overburden generated from mining Panel G would be permanently placed in 138 acres of external overburden fills on-lease at Panel G as well as backfill in the Panel G open pit.

Disturbed lands directly resulting from the proposed activities total about 1,340 acres. New pits would disturb approximately 763 acres of which approximately 796 acres would be backfilled and reclaimed. Forty-six acres of highwall and pit bottoms would remain after reclamation is complete. The remaining 23 acres of the Panel E (currently approved and active) open pit would also be backfilled with overburden from Panel F. This pit is currently permitted to be left open. The rest of the disturbed acreage would consist of approximately 284 acres of roads, 176 acres of overburden disposal areas, and 117 acres of runoff management facilities, water monitoring facilities, and topsoil piles. Each would be reclaimed. The FS Sage Creek inventoried roadless area overlaps large portions of the proposed mine and haul road disturbance areas.

Potential impacts to surface resources and water quality include erosion, sediment, and dissolved contaminants such as selenium. Simplot has proposed to implement practices designed to reduce, eliminate, or mitigate these impacts. Suitable topsoil would be salvaged from disturbed areas for use in reclamation. Reclamation of mining disturbances include: removal of facilities and equipment, backfilling pits, regrading slopes, restoring drainages, spreading topsoil, stabilizing surfaces, revegetation, testing and treatment for remaining hydrocarbon contaminants and environmental monitoring.

Simplot has applied for two lease modifications to expand Federal Phosphate Lease I-27512 for the Panel F operations. They are a smaller 120-acre lease modification on the northern edge of the lease and a larger 400-acre modification on the southern edge of the lease. The proposed northern lease modifications would be included in all action alternatives. The issuance and mining of a southern lease modification would be evaluated as a separate alternative. Simplot will likely apply for another lease modification to enlarge lease I-01441 to accommodate 18 acres of off-lease external overburden fill. Environmental impacts of mining operations within the lease modifications will be analyzed in this EIS.

Issues initially identified for the proposed mining of F and G panels include potential effects on: ground water and surface water quantity and quality, wildlife and their habitats; livestock grazing, wetlands and riparian habitat, socio-economics, FS inventoried roadless areas, visual resources, and cumulative effects.

At this early stage, the BLM and FS believe that it is important to give reviewers notice of several court rulings related to public participation in the environmental review process. First, reviewers of draft EISs must structure their participation in the environmental review of the proposal to be meaningful and alert an agency to reviewer's position and contentions. Vermont Yankee Nuclear Power Corp. v. NRDC, 435 U.S. 518,553 (1978). Also, environmental objections that could be raised at the draft EIS stage but are not raised until after completion of the final EIS may be waived or dismissed by the courts. City of Angoon v. Hodel, 803 F. 2d 1016, 1022 (9th Cir. 1986) and Wisconsin Heritages, Inc. v. Harris, 490 F. Supp. 1334, 1338 (E.D. Wis. 1980). Due to these court rulings, it is very important that those interested in this proposed action participate by the close of the 60-day comment period for the draft EIS. This is necessary so that substantive comments and objections are made available to the BLM and FS at a time when they can meaningfully consider them and respond to them in the final EIS.

Possible Alternatives

The EIS will analyze the Proposed Action with and without issuing a lease modification on the southern margin of Panel F operations, alternative access/haul road alignment to access the Panel G operations and the No Action Alternative. Other alternatives may include: Additional access and haul road designs, use of conveyors to transport ore to the existing mill, revising the layout or sequencing of the proposed mining facilities, different methods for reducing impacts from overburden handling, and other alternatives that could provide mitigation for impacts.

Tentative EIS Project Schedule

The tentative project schedule is as follows:

• Estimated date for Draft EIS: December 2005.

• Public Comment Period on Draft EIS: 60 days from when the Notice of Availability is published in the Federal Register.

• Final EIS Publication: July 2006.

• Decision: August 2006.

Public Scoping Meetings

At least three public meetings will be held. Each will be the open house type. The open houses will include displays explaining the project and provide a forum for commenting on the project. Meetings are currently planned for Pocatello and Soda Springs, Idaho and Afton, Wyoming. The dates, times, and locations of the public scoping meetings will be announced in mailings and public notices issued by the BLM or may be obtained from Bill Stout, Bureau of Land Management, Pocatello Field Office, 4350 Cliffs Drive, Pocatello, Idaho 83204, or http://www.blm.gov/nhp/spotlight/state_info/planning.htm, phone (208) 478-6367.

Public Input Requested

The BLM and FS are seeking information and written comments from Federal, State and local agencies as well as individuals and organizations interested in, or affected by, the Proposed Action or Alternatives. To assist the BLM and FS in identifying issues and concerns related to the Proposed Action or Alternatives, comments for the Draft EIS, should be as specific as possible.

Dated: December 21, 2005.
Sheryl Bainbridge,
Acting Forest Supervisor, Caribou-Targhee National Forest.

[FR Doc. 05-24574 Filed 12-28-05; 8:45 am]

BILLING CODE 3410-11-M